DEPARTMENT OF JUSTICE

[OMB Number 1105-0084]

Agency Information Collection Activities; Proposed Collection; Comments Requested: Application for Approval as a Nonprofit Budget and Credit Counseling Agency

ACTION: 60-Day Notice.

The Department of Justice, Executive Office for United States Trustees, will be submitting the following application to the Office of Management and Budget (OMB) for review and clearance in accordance with the Paperwork Reduction Act of 1995. The application is published to obtain comments from the public and affected agencies. Comments are encouraged and will be accepted for 60 days until July 5, 2013.

All comments and suggestions, or questions regarding additional information, to include obtaining a copy of the proposed application with instructions, should be directed to Wendy Tien, Deputy Assistant Director, at the Executive Office for United States Trustees, Department of Justice, 441 G Street NW., Suite 6150, Washington, DC 20530.

Written comments and suggestions from the public and affected agencies concerning the collection of information are encouraged. Comments should address one or more of the following four points:

1. Evaluate whether the application is necessary for the proper performance of the functions of the agency, including whether the information will have practical utility;

2. Evaluate the accuracy of the agency's estimate of the burden of the collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submission of responses.

Overview of the Information:

Type of information collection: | Application form.
The title of the form/collection: | Application for Approval as a Nonprofit Budget and Credit Counseling Agency.
The agency form number, if any, and the applicable component of the department sponsoring the collection: | No form number. Executive Office for United States Trustees, Department of Justice.
Affected public who will be asked or required to respond, as well as a brief abstract: | Primary: Agencies who wish to offer credit counseling services. Other: None. Congress passed a bankruptcy law that requires any individual who wishes to file for bankruptcy to, within 180 days of filing for bankruptcy relief, first obtain credit counseling from a nonprofit budget and credit counseling agency that has been approved by the United States Trustee.
An estimate of the total number of respondents and the amount of time estimated for an average respondent to respond/reply: | It is estimated that 175 respondents will complete the application; initial applicants will complete the application in approximately ten (10) hours, while renewal applicants will complete the application in approximately four (4) hours.
An estimate of the total public burden (in hours) associated with the collection: | The estimated total annual public burden associated with this application is 808 hours.

If additional information is required, contact: Jerri Murray, Department Clearance Officer, United States Department of Justice, Justice Management Division, Policy and Planning Staff, Patrick Henry Building, 601 D Street NW., Suite 1600, Washington, DC 20530.

Dated: April 30, 2013.
Jerri Murray,
Department Clearance Officer, U.S. Department of Justice.

[FR Doc. 2013-10588 Filed 5-3-13; 8:45 am]

BILLING CODE 4410-40-P